DEPARTMENT OF HEALTH AND HUMAN SERVICES

Centers for Disease Control and Prevention

[30-Day-23-1318]

Agency Forms Undergoing Paperwork Reduction Act Review

In accordance with the Paperwork Reduction Act of 1995, the Centers for Disease Control and Prevention (CDC) has submitted the information collection request titled “Requirement for Proof of COVID-19 Vaccination for Noncitizen, Nonimmigrant Air Passengers Arriving into the United States from a Foreign Country” to the Office of Management and Budget (OMB) for review and approval. CDC previously published a “Proposed Data Collection Submitted for Public Comment and Recommendations” notice on July 5, 2022 to obtain comments from the public and affected agencies. CDC received 5,935 comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Requirement for Proof of COVID-19 Vaccination for Noncitizen, Nonimmigrant Air Passengers Arriving into the United States from a Foreign Country (OMB Control No. 0920-1318, Exp. 12/31/2022)—Extension—National Center for Emerging Zoonotic and Infectious Diseases (NCEZID), Centers for Disease Control and Prevention (CDC).

Background and Brief Description

The Centers for Disease Control and Prevention (CDC), National Center for Emerging and Zoonotic Infectious Diseases (NCEZID), Division of Global Migration and Quarantine (DGMQ) requests a two-year Extension for the information collection: Requirement for Proof of COVID-19 Vaccination for Noncitizen, Nonimmigrant Air Passengers Arriving into the United States from a Foreign Country. This information collection is necessary to implement the Presidential Proclamation Advancing Safe Resumption of Global Travel During the COVID-19 Pandemic and CDC's Amended Order Implementing Presidential Proclamation on Advancing Safe Resumption of Global Travel During the COVID-19 Pandemic.

Pursuant to Sections 1182(f) and 1185(a)(1) of Title 8, and Section 301 of Title 3, United States Code, on October 25, 2021, the President issued a Proclamation (“the Proclamation”) titled, “Advancing the Safe Resumption of Global Travel During the COVID-19 Pandemic.” With this Proclamation, the President implemented a global suspension and limitation on entry for noncitizens who are nonimmigrants (“noncitizen nonimmigrants”) seeking to enter the United States by air travel and who are not fully vaccinated against COVID-19. The Proclamation directs, in part, the Secretary of Health and Human Services (HHS), through the Director of the Centers for Disease Control and Prevention (CDC), to implement the Proclamation as it applies to public health in accordance with appropriate public health protocols and consistent with CDC's independent public health judgment.

CDC issued the Order Implementing the Presidential Proclamation on Advancing Safe Resumption of Global Travel During the COVID-19 Pandemic on October 25, 2021. Beginning on November 8, 2021, CDC's Order required noncitizen nonimmigrants to show proof of being fully vaccinated against COVID-19 with: (1) one of the vaccines approved (or authorized for emergency use) by the U.S. Food and Drug Administration (FDA); (2) a vaccine listed for emergency use by the World Health Organization (WHO); or (3) a combination of vaccines as specified in CDC Technical Instructions.

Air passengers who are noncitizen nonimmigrants must provide proof of COVID-19 vaccination and attest to the truthfulness of the proof of vaccination. Airlines must also confirm that the proof of vaccination matches the passengers' identity, as instructed by the airline before being allowed to board a flight to the United States. The Order allows some exceptions to this requirement. Most categories of exceptions require the individual to attest to taking certain measures after U.S. arrival, specifically, getting tested 3-5 days after arrival and isolating if they test positive or develop symptoms. An additional category of exceptions requires the individual to attest to getting fully vaccinated against COVID-19 if staying more than 60 days.

CDC issued an amended Order on October 30, 2021, and on April 4, 2022. The Amended Vaccination Order signed on April 4, 2022 superseded the previous Order signed by the CDC Director on October 30, 2021, and continues to implement the President's direction. CDC requests OMB approval for an estimated 68,005,000 annual burden hours.

Estimated Annualized Burden Hours
Type of respondent | Form name | Number of respondents | Number of responses per respondent | Average burden per response (in hours)
Noncitizen Nonimmigrant Air Passenger | Section 2 of Combined Passenger Disclosure and Attestation to the United States of America | 60,000,000 | 1 | 1
Airline Desk Agent | Combined Passenger Disclosure and Attestation to the United States of America | 60,000,000 | 1 | 8/60
Noncitizen Nonimmigrant Air Passenger | Request Humanitarian or Emergency Exception to Proof of Vaccination Requirement—(No form) | 1,290 | 1 | 2
Air Traveler (for illness or death investigation) | Air Travel Illness or Death Investigation or Traveler Follow-up Form | 10,000 | 1 | 15/60

Jeffrey M. Zirger,
Lead, Information Collection Review Office, Office of Scientific Integrity, Office of Science, Centers for Disease Control and Prevention.

[FR Doc. 2022-28005 Filed 12-22-22; 8:45 am]

BILLING CODE 4163-18-P